ENVIRONMENTAL PROTECTION AGENCY

40 CFR Part 52

[EPA-R07-OAR-2007-0383; FRL-8318-8]

Approval and Promulgation of Implementation Plans; State of Missouri

AGENCY: Environmental Protection Agency (EPA).

ACTION: Direct final rule.

SUMMARY: EPA is approving a request to amend the Missouri State Implementation Plan (SIP) to include the base year inventory for the Missouri portion of the St. Louis 8-hour ozone national ambient air quality standard (NAAQS) nonattainment area and a demonstration of Missouri's emissions statement authority. The Missouri portion of the St. Louis nonattainment area consists of the City of St. Louis and Franklin, Jefferson, St. Charles and St. Louis Counties. The nonattainment area also includes four counties in Illinois. This amendment would fulfill Missouri's obligation, as a moderate nonattainment area, to submit a base year inventory for the 8-hour ozone NAAQS and to demonstrate adequate authority to address the emissions statement requirement as required under Section 182(a)(1) and Section 182(a)(3)(B) of the Clean Air Act, respectively.

DATES: This direct final rule will be effective July 30, 2007, without further notice, unless EPA receives adverse comment by July 2, 2007. If adverse comment is received, EPA will publish a timely withdrawal of the direct final rule in the Federal Register informing the public that the rule will not take effect.

ADDRESSES: Submit your comments, identified by Docket ID No. EPA-R07-OAR-2007-0383, by one of the following methods:

1. http://www.regulations.gov. Follow the on-line instructions for submitting comments.

2. E-mail: rios.shelly@epa.gov.

3. Mail: Shelly Rios-LaLuz, Environmental Protection Agency, Air Planning and Development Branch, 901 North 5th Street, Kansas City, Kansas 66101.

4. Hand Delivery or Courier. Deliver your comments to Shelly Rios-LaLuz, Environmental Protection Agency, Air Planning and Development Branch, 901 North 5th Street, Kansas City, Kansas 66101.

Instructions: Direct your comments to Docket ID No. EPA-R07-OAR-2007-0383. EPA's policy is that all comments received will be included in the public docket without change and may be made available online at http://www.regulations.gov, including any personal information provided, unless the comment includes information claimed to be Confidential Business Information (CBI) or other information whose disclosure is restricted by statute. Do not submit through http://www.regulations.gov or e-mail information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Environmental Protection Agency, Air Planning and Development Branch, 901 North 5th Street, Kansas City, Kansas 66101. The Regional Office's official hours of business are Monday through Friday, 8 to 4:30 excluding Federal holidays. The interested persons wanting to examine these documents should make an appointment with the office at least 24 hours in advance.

FOR FURTHER INFORMATION CONTACT: Shelly Rios-LaLuz at (913) 551-7296, or by e-mail at rios.shelly@epa.gov.

SUPPLEMENTARY INFORMATION: Throughout this document whenever “we,” “us,” or “our” is used, we mean EPA. This section provides additional information by addressing the following questions:

What is a SIP?

What is the Federal approval process for a SIP?

What is being addressed in this document?

Have the requirements for approval of a SIP revision been met?

What action is EPA taking?

What is a SIP?

Section 110 of the Clean Air Act (CAA) requires states to develop air pollution regulations and control strategies to ensure that state air quality meets the national ambient air quality standards established by EPA. These ambient standards are established under section 109 of the CAA, and they currently address six criteria pollutants. These pollutants are: Carbon monoxide, nitrogen dioxide, ozone, lead, particulate matter, and sulfur dioxide.

Each state must submit these regulations and control strategies to us for approval and incorporation into the Federally-enforceable SIP.

Each Federally-approved SIP protects air quality primarily by addressing air pollution at its point of origin. These SIPs can be extensive, containing state regulations or other enforceable documents and supporting information such as emission inventories, monitoring networks, and modeling demonstrations.

What is the Federal approval process for a SIP?

In order for state regulations to be incorporated into the Federally-enforceable SIP, states must formally adopt the regulations and control strategies consistent with state and Federal requirements. This process generally includes a public notice, public hearing, public comment period, and a formal adoption by a state-authorized rulemaking body.

Once a state rule, regulation, or control strategy is adopted, the state submits it to us for inclusion into the SIP. We must provide public notice and seek additional public comment regarding the proposed Federal action on the state submission. If adverse comments are received, they must be addressed prior to any final Federal action by us.

All state regulations and supporting information approved by EPA under section 110 of the CAA are incorporated into the Federally-approved SIP. Records of such SIP actions are maintained in the Code of Federal Regulations (CFR) at title 40, part 52, entitled “Approval and Promulgation of Implementation Plans.” The actual state regulations which are approved are not reproduced in their entirety in the CFR outright but are “incorporated by reference,” which means that we have approved a given state regulation with a specific effective date.

What is being addressed in this document?

On June 15, 2006, we received a request from the Missouri Department of Natural Resources (MDNR) to amend its SIP to include the 2002 Base Year Emissions Inventory for the Missouri Portion of the St. Louis 8-Hour Ozone Nonattainment Area. The Missouri portion of the St. Louis nonattainment area consists of the City of St. Louis and Franklin, Jefferson, St. Charles and St. Louis Counties. The St. Louis area was designated a moderate nonattainment area for the 8-hour ozone national ambient air quality standard (NAAQS) on April 15, 2004. This designation became effective on June 15, 2004. Moderate nonattainment areas must comply with requirements under the CAA Section 182(b), which states, in part, that moderate nonattainment areas shall make submissions that are required under subsection (a) relating to marginal areas. Section 182(a)(1) states that areas subject to Section 182(a) must submit a comprehensive, accurate, current inventory of actual emissions from all sources in accordance with EPA guidance. Such plans must be submitted within two years after the initial designation of June 15, 2004. In addition, Section 182(a)(3)(B) requires that the SIP include requirements that owner and operators of the sources emitting ozone precursors must submit annual statements of their emissions. This action addresses both of these requirements for the Missouri portion of the St. Louis 8-hour ozone nonattainment area.

EPA's Emissions Inventory Guidance for Implementation of Ozone and Particulate Matter National Ambient Air Quality Standards (NAAQS) and Regional Haze Regulations (EPA-454/R-05-001, August 2005) was used as the basis for the development of the base year inventory submittal. MDNR chose 2002 as the base year for the St. Louis 8-hour ozone nonattainment area emissions inventory as recommended by the November 18, 2002, EPA memorandum 2002 Base Year Inventory SIP Planning: 8-Hour Ozone, PM2.5 and Regional Haze Programs. The inventory addresses actual annual and actual ozone season day (OSD) emissions of volatile organic compounds (VOCs), nitrogen oxides (NOX) and carbon monoxide (CO) from stationary point and area sources, onroad and nonroad mobile sources, and biogenic sources within the Missouri portion of the St. Louis ozone nonattaiment area in accordance with the EPA's emission inventory guidance referenced above. The MDNR defined OSD emissions as those occurring during a typical weekday during the high ozone season, which takes place from June through August. This definition is consistent with the Consolidated Emissions Reporting Rule (CERR) where ozone daily emissions are defined as summer work weekday emissions. In addition, this period correlates to the 8-hour ozone NAAQS exceedences that occurred in 2002 and with the modeling episodes used in the attainment demonstration, which is currently under development by the state. The entire ozone season is from April-October.

Emissions for Missouri's portion of the St. Louis 8-hour ozone nonattainment area for the 2002 base year inventory are summarized in Table 1.

Table 1.—2002 Base Year Emissions Summary by Source Category Type
Source type | VOC tons/yr | VOC tons/OSD | NOX tons/yr | NOX tons/OSD | CO tons/yr | CO tons/OSD
Point | 10,868.4 | 29.0 | 44,018.3 | 126.8 | 9,207.0 | 26.4
Area | 28,947.0 | 73.3 | 10,014.2 | 19.1 | 20,976.8 | 30.6
Offroad Mobile | 13,881.3 | 45.3 | 19,329.0 | 60.2 | 188,365.9 | 642.6
Onroad Mobile | 25,973.0 | 68.2 | 60,311.7 | 159.0 | 399,726.4 | 863.5
Anthropogenic Totals | 79,669.7 | 215.7 | 133,673.2 | 365.1 | 618,276.1 | 1,563.2
Biogenics | 56,878.50 | 385.8 | 886.5 | 3.5 | 4,813.60 | 28.7
Total (All) | 136,548.20 | 601.5 | 134,559.70 | 368.60 | 623,089.70 | 1,591.90

Missouri's obligation under Section 182(a)(3)(B) of the CAA, which requires that all states with ozone nonattainment areas collect emission statements of the actual VOC and NOX emissions from the owner or operators of each stationary source in the nonattainment area, was met by MDNR with its adoption of a revision to the Missouri SIP (rule 10 CSR 10-6.110), submitted to EPA on March 31, 1994, that demonstrated compliance with this requirement for the 1-hour ozone standard. Rule 10 CSR 10-6.110 was approved into the SIP on February 29, 1996 (61 FR 7714), and was effective on April 1, 1996. EPA's rationale for approving this rule can be found in the April 3, 1995, proposed rule (60 FR 16827). This rule requires sources that emit NOX, VOC and CO equal or greater to 10 tons per year to submit emissions statements of their actual emissions to the state of Missouri. EPA has reviewed Missouri's rule and agrees that it is adequate for purposes of the emissions statement requirement for the 8-hour ozone NAAQS.

Have the requirements for approval of a SIP revision been met?

The state submittal has met the public notice requirements for SIP submissions in accordance with 40 CFR 51.102. The submittal also satisfied the completeness criteria of 40 CFR part 51, appendix V. In addition, as explained above and in more detail in the technical support document which is part of this document, the revision meets the substantive SIP requirements of the CAA, including section 110 and implementing regulations.

What action is EPA taking?

We are approving the request to amend Missouri's SIP to include the base year inventory for the Missouri portion of the St. Louis 8-hour ozone nonattainment area. We are processing this action as a direct final action because the revisions make routine changes to the existing rules which are noncontroversial. Therefore, we do not anticipate any adverse comments. Please note that if EPA receives adverse comment on part of this rule and if that part can be severed from the remainder of the rule, EPA may adopt as final those parts of the rule that are not the subject of an adverse comment.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045, “Protection of Children from Environmental Health Risks and Safety Risks” (62 FR 19885, April 23, 1997), because it approves a state rule implementing a Federal standard.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 30, 2007. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: May 14, 2007
John B. Askew,
Regional Administrator, Region 7.

Chapter I, title 40 of the Code of Federal Regulations is amended as follows:

PART 52—[AMENDED]

1. The authority citation for part 52 continues to read as follows:

Authority: 42 U.S.C. 7401 et seq.

Subpart AA—Missouri

2. In § 52.1320(e) the table is amended by adding an entry in numerical order to read as follows:

§ 52.1320 Identification of Plan.

* * * * *

(e) * * *

EPA-Approved Missouri Nonregulatory SIP Provisions
Name of nonregulatory SIP provision | Applicable geographic or nonattainment area | State submittal date | EPA approval date | Explanation
* * * * * * *
(52) Submittal of the 2002 Base Year Inventory for the Missouri Portion of the St. Louis 8-hour ozone nonattaiment area and Emissions Statement SIP | St. Louis | 06/15/06 | 05/31/07 [insert FR page number where the document begins]

[FR Doc. E7-10231 Filed 5-30-07; 8:45 am]

BILLING CODE 6560-50-P